ENVIRONMENTAL PROTECTION AGENCY

40 CFR Part 52

[EPA-R09-OAR-2022-0221; FRL-9598-01-R9]

Approval and Promulgation of Implementation Plans; California; Correcting Amendments

AGENCY: Environmental Protection Agency (EPA).

ACTION: Proposed rule.

SUMMARY: On August 28, 2009, the Environmental Protection Agency (EPA) issued a final rule titled “Revisions to the California State Implementation Plan, Antelope Valley Air Quality Management District.” That publication inadvertently omitted regulatory text rescinding four previously approved rules for the Antelope Valley Air Quality Management District portion of the California State Implementation Plan (SIP). On September 20, 2016, the EPA issued a final rule titled “Approval of California Air Plan Revisions, Department of Pesticide Regulations.” That publication listed the wrong EPA approval dates and Federal Register citations for certain rules. The EPA is proposing action to correct these errors.

DATES: Comments from be received on or before April 25, 2022.

ADDRESSES: Submit your comments, identified by Docket ID No. EPA-R09-OAR-2022-0221 at https://www.regulations.gov. For comments submitted at Regulations.gov, follow the online instructions for submitting comments. Once submitted, comments cannot be edited or removed from Regulations.gov. The EPA may publish any comment received to its public docket. Do not submit electronically any information you consider to be Confidential Business Information (CBI) or other information whose disclosure is restricted by statute. Multimedia submissions (audio, video, etc.) must be accompanied by a written comment. The written comment is considered the official comment and should include discussion of all points you wish to make. The EPA will generally not consider comments or comment contents located outside of the primary submission (i.e., on the web, cloud, or other file sharing system). For additional submission methods, please contact the person identified in the FOR FURTHER INFORMATION CONTACT section. For the full EPA public comment policy, information about CBI or multimedia submissions, and general guidance on making effective comments, please visit https://www.epa.gov/dockets/commenting-epa-dockets. If you need assistance in a language other than English or if you are a person with disabilities who needs a reasonable accommodation at no cost to you, please contact the person identified in the FOR FURTHER INFORMATION CONTACT section.

FOR FURTHER INFORMATION CONTACT: Kevin Gong, EPA Region IX, 75 Hawthorne St., San Francisco, CA 94105. By phone: (415) 972-3073 or by email at gong.kevin@epa.gov.

SUPPLEMENTARY INFORMATION: Throughout this document, wherever “we”, “us” or “our” are used, we mean the EPA. In the Rules and Regulations section of this Federal Register, we are correcting the inadvertent omission in our August 28, 2009 direct final rule of regulatory text removing four rules from the Antelope Valley Air Quality Management District (AQMD) portion of the California SIP. We are also correcting the EPA approval dates and Federal Register citations for certain rules adopted by the California Department of Pesticide Regulations that we approved in a September 20, 2016 final rule. We are taking these actions in a direct final action without prior proposal because we believe this error correction action is not controversial. If we receive adverse comments, however, we will publish a timely withdrawal of the direct final rule and address the comments in a subsequent action based on this proposed rule.

We do not plan to open a second comment period, so anyone interested in commenting should do so at this time. If we do not receive adverse comments, no further activity is planned. For further information, please see the direct final action.

Dated: March 20, 2022.
Martha Guzman Aceves,
Regional Administrator, Region IX.

[FR Doc. 2022-06291 Filed 3-24-22; 8:45 am]

BILLING CODE 6560-50-P